DEPARTMENT OF THE INTERIOR

National Park Service

Notice of Inventory Completion for Native American Human Remains in the Possession of the U.S. Department of Justice, Federal Bureau of Investigation (FBI), Louisville, KY

AGENCY: National Park Service, Interior.

ACTION: Notice.

Notice is hereby given in accordance with the provisions of the Native American Graves Protection and Repatriation Act (NAGPRA), 43 CFR 10.9, of the completion of an inventory of Native American human remains in the possession of the U.S. Department of Justice, Federal Bureau of Investigation (FBI), Louisville, KY.

This notice is published as part of the National Park Service’s administrative responsibilities under NAGPRA, 43 CFR 10.2 (c). The determinations within this notice are the sole responsibility of the museum, institution, or Federal agency that has control of these Native American human remains. The National Park Service is not responsible for the determinations within this notice.

A detailed assessment of the human remains was made by University of Louisville Staff Archaeologist Philip J. DiBlasi in consultation with representatives of the Absentee-Shawnee Tribe of Indians of Oklahoma; Delaware Nation, Oklahama; Eastern Shawnee Tribe of Oklahoma; Miami Tribe of Oklahoma; Peoria Tribe of Indians of Oklahoma; and Shawnee Tribe, Oklahoma.

On January 27, 1999, a human cranium was recovered by FBI agents from Sean Adam Long. These human remains were purchased from Mr. Long by FBI agents acting in an undercover capacity. On February 18, 1999, a search warrant was executed at Mr. Long’s home near Madisonville, KY. Additional human remains were recovered by FBI agents during the search. The human remains consist of two human crania and two human teeth. One associated funerary object was also recovered during the search. Osteological assessment of the human remains recovered on January 27 and February 18, 1999, indicate that they represent five individuals of Native American ancestry. No known individuals were identified.

In an interview with agents on February 18, 1999, Mr. Long stated that he purchased one cranium in Grayville, IL. Though Mr. Long later recanted this statement, the FBI believes Mr. Long’s original statement to be true. Grayville is located in Edwards County, IL, and is surrounded by numerous well-known Mississippian period (AD 1250-1700) archeological sites. Archeological and historical evidence indicates that the Mississippian period population living in the area of Grayville, IL is ancestral to the present-day Peoria Tribe of Indians of Oklahoma.

A label on the interior of the box in which a second cranium was recovered reads “Crib Mound.” Crib Mound is a well-known Hopewell period (200 B.C.-A.D. 500) site located in Spencer County, IN. Crib Mound has been the target of looters for decades and is now nearly destroyed. Archeological and historical evidence indicates that the Hopewell period population that lived at Crib Mound is ancestral to the present-day Peoria Tribe of Indians of Oklahoma.

The determination of cultural affiliation for the remains of the three other individuals and one associated funerary object is included in a separate Federal Register notice.

On March 7, 2001, Sean Adam Long pleaded guilty in U.S. District Court in Owensboro, KY to three counts of illegal trafficking in Native American human remains [18 U.S.C. 1170 (a)] and one count of knowingly making a materially false, fictitious, or fraudulent statement or representation [18 U.S.C. 1001]. A single count of trafficking in interstate or foreign commerce in archaeological resources the excavation, removal, sale, purchase, exchange, transportation or receipt of which was wrongful under State or local law [16 U.S.C. 470ee (c)] was dismissed in return for Mr. Long’s plea to making a false statement to FBI agents.

Based on the above-mentioned information, FBI officials determined that, pursuant to 43 CFR 10.2 (d)(1), the human remains listed above represent the physical remains of two individuals of Native American ancestry. FBI officials determined that, pursuant to 43 CFR 10.2 (e), there is a relationship of shared group identity that can be reasonably traced between these Native American human remains and the Peoria Tribe of Indians of Oklahoma.

This notice has been sent to officials of the Absentee-Shawnee Tribe of Indians of Oklahoma; Delaware Nation, Oklahoma; Delaware Tribe of Indians, Oklahoma; Eastern Shawnee Tribe of Oklahoma; Miami Tribe of Oklahoma; Peoria Tribe of Indians of Oklahoma; and Shawnee Tribe, Oklahoma. Representatives of any other Indian tribe that believes itself to be culturally affiliated with these human remains and associated funerary object should contact Randy Ream, Assistant United States Attorney, 510 West Broadway, 10th Floor, Louisville, KY 40202, phone (502) 582-5911, before October 11, 2002. Repatriation of the human remains and associated funerary object to the Peoria Tribe of Indians of Oklahoma may begin after that date if no additional claimants come forward.

Dated: August 1, 2002.
Robert Stearns,
Manager, National NAGPRA Program.

[FR Doc. 02-23025 Filed 9-10-02; 8:45 am]

BILLING CODE 4310-70-S